Proclamation 8654 of April 12, 2011

Civil War Sesquicentennial

By the President of the United States of America

A Proclamation

On April 12, 1861, artillery guns boomed across Charleston Harbor in an attack on Fort Sumter. These were the first shots of a civil war that would stretch across 4 years of tremendous sacrifice, with over 3 million Americans serving in battles whose names reach across our history. The meaning of freedom and the very soul of our Nation were contested in the hills of Gettysburg and the roads of Antietam, the fields of Manassas and the woods of the Wilderness. When the terrible and costly struggle was over, a new meaning was conferred on our country’s name—the United States of America. We might be tested, but whatever our fate might be, it would be as one Nation.

The Civil War was a conflict characterized by legendary acts of bravery in the face of unprecedented carnage. Those who lived in these times—from the resolute African American soldier volunteering his life for the liberation of his fellow man to the determined President secure in the rightness of his cause—brought a new birth of freedom to a country still mending its divisions.

On this milestone in American history, we remember the great cost of the unity and liberty we now enjoy, causes for which so many have laid down their lives. Though America would struggle to extend equal rights to all our citizens and carry out the letter of our laws after the war, the sacrifices of soldiers, sailors, Marines, abolitionists, and countless other Americans would bring a renewed significance to the liberties established by our Founders. When the guns fell silent and the fate of our Nation was secured, blue and gray would unite under one flag and the institution of slavery would be forever abolished from our land.

As a result of the sacrifice of millions, we would extend the promise and freedom enshrined in our Constitution to all Americans. Through the 13th, 14th, and 15th Amendments, we would prohibit slavery and indentured servitude, establish equal protection under the law, and extend the right to vote to former slaves. We would reach for a more perfect Union together as Americans, bound by the collective threads of history and our common hopes for the future.

We are the United States of America—we have been tested, we have repaired our Union, and we have emerged stronger. As we respond to the critical challenges of our time, let us do so as adherents to the enduring values of our founding and stakeholders in the promise of a shared tomorrow.

NOW, THEREFORE, I, BARACK OBAMA, President of the United States of America, by virtue of the authority vested in me by the Constitution and the laws of the United States, do hereby proclaim April 12, 2011, as the first day of the Civil War Sesquicentennial. I call upon all Americans to observe this Sesquicentennial with appropriate programs, ceremonies, and activities that honor the legacy of freedom and unity that the Civil War bestowed upon our Nation.

IN WITNESS WHEREOF, I have hereunto set my hand this twelfth day of April, in the year of our Lord two thousand eleven, and of the Independence of the United States of America the two hundred and thirty-fifth.

[FR Doc. 2011-9368

Filed 4-14-11; 8:45 am]

Billing code 3195-W1-P